DEPARTMENT OF THE INTERIOR

Geological Survey

[GX15EE000101100]

Agency Information Collection Activities: Request for Comments on the ISO Geospatial Metadata Editors Registry

AGENCY: U.S. Geological Survey (USGS), Interior.

ACTION: Notice of a new information collection, ISO Geospatial Metadata Editors Registry.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before December 15, 2014.

ADDRESSES: Please submit your written comments on this information collection directly to the Office of Management and Budget, Office of Information and Regulatory Affairs, Attention: Desk Officer for the Department of the Interior, via email: (OIRA_SUBMISSION@omb.eop.gov); or by fax (202) 395-5806; and identify your submission with `OMB Control Number 1028-NEW ISO Geospatial Metadata Editors Registry'. Please also forward a copy of your comments to the Information Collection Clearance Officer, U.S. Geological Survey, 807 National Center, 12201 Sunrise Valley Drive, Reston, VA 20192 (mail); 703-648-7195 (fax); or gs-info_collections@usgs.gov (email). Please reference `OMB Information Collection 1028—NEW ISO Geospatial Metadata Editors Registry' in all correspondence.

FOR FURTHER INFORMATION CONTACT: Jennifer Carlino, Federal Geographic Data Committee Office of the Secretariat, at (303) 202-4260 or jcarlino@usgs.gov; or by mail at U.S. Geological Survey, P.O. Box 25046, Mailstop 302, Denver, CO 80225. You may also find information about this ICR at www.reginfo.gov.

SUPPLEMENTARY INFORMATION:

I. Abstract

As National Spatial Data Infrastructure (NSDI) stakeholders move forward with the implementation of the International Organization for Standardization's (ISO) 191xx series of geospatial metadata standards, there is increasing demand for information about applications/editors that can be used to create ISO compliant metadata records. The USGS, through the Federal Geographic Data Committee (FGDC) Office of the Secretariat (www.fgdc.gov), proposes development of an online registration system for developers of ISO Geospatial Metadata Editors to voluntarily describe their metadata tools. Developers will be asked to include information such as features of the editor, its functionality, supported standards, and point of contact information through a login-based, online form. The FGDC Metadata Working Group (MWG) (www.fgdc.gov/participation/working-groupssubcommittees/mwg), whose membership represents Federal, State, Local and Tribal governments and the Private Sector, has requested the development of the registry as a useful tool to learn about available ISO Geospatial Metadata Editors. Since the information about the editors may be of interest or utility to others implementing ISO geospatial metadata standards, the FGDC will make the information collected available on the Web in the form of a simple registry type database. FGDC MWG members as well as non FGDC MWG members including geospatial metadata implementers from private sector, academia, all forms of government, and the general public, will have read-only access to the editor information published in the registry.

II. Data

OMB Control Number: 1028—NEW.

Title: ISO Geospatial Metadata Editors Registry.

Type of Request: Approval of a new information collection.

Respondent Obligation: None. Participation is voluntary.

Frequency of Collection: Annually.

Description of Respondents: Federal, State, Local and Tribal governments, Private Sector, and others involved in the development of ISO geospatial metadata.

Estimated Total Number of Annual Responses: Approximately 10.

Estimated Time per Response: We estimate that it will take 1 hour per person to document a single editor for inclusion in the Registry.

Estimated Annual Burden Hours: 10 hours in year one and less than 5 in each subsequent year.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On May 15, 2014, we published a Federal Register notice (79 FR 11199) announcing that we would submit this ICR to OMB for approval and soliciting comments. The comment period closed on July 14, 2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Kenneth M. Shaffer,
Deputy Executive Director, Federal Geographic Data Committee, Office of the Secretariat, U.S. Geological Survey.

[FR Doc. 2014-26858 Filed 11-12-14; 8:45 am]

BILLING CODE 4311-AM-P